UNITED STATES INSTITUTE OF PEACE

Notice of Meeting

AGENCY: United States Institute of Peace.

Date/Time: Thursday, April 29, 2010; 9:15 a.m.-3:15 p.m.

Location: 1200 17th Street, NW., Suite 200, Washington, DC 20036-3011.

Status: Open Session—Portions may be closed pursuant to Subsection (c) of Section 552(b) of Title 5, United States Code, as provided in subsection 1706(h)(3) of the United States Institute of Peace Act, Public Law 98-525.

Agenda: April 29, 2010 Board Meeting; Approval of Minutes of the One Hundred Thirty-Sixth Meeting (January 14, 2010) of the Board of Directors; Chairman's Report; Presidents Report; Introduction of Peace Scholars; Discussion of Grants Process; Updates on SENSE, Sudan; Audit and Finance Committee Report; Vote on the National Peace Essay Contest winners; Other General Issues.

Contact: Tessie F. Higgs, Executive Office, Telephone: (202) 429-3836.

Dated: April 1, 2010.
Tara Sonenshine,
Executive Vice President, United States Institute of Peace.

[FR Doc. 2010-7726 Filed 4-7-10; 8:45 am]

BILLING CODE 6820-AR-M